DEPARTMENT OF EDUCATION

Notice of Proposed Waiver and Extension of Project Period for the Native Hawaiian Career and Technical Education Program

AGENCY: Office of Vocational and Adult Education, Department of Education.

ACTION: Notice.

SUMMARY: For 36-month projects funded in fiscal year (FY) 2009 under the Native Hawaiian Career and Technical Education Program (NHCTEP), CFDA Number: 84.259A, the Secretary proposes to waive the regulation that restricts project period extensions involving the obligation of additional Federal funds. The Secretary also proposes to extend the project period of these grants for an additional 12 months. This would enable the eight current NHCTEP grantees to seek FY 2012 continuation awards for project periods through FY 2013. Further, the waiver and extension, as proposed, would mean that we would not announce new awards in FY 2012.

DATES: We must receive your comments on or before March 19, 2012.

ADDRESSES: Submit all comments on this notice to Linda Mayo, U.S. Department of Education, 400 Maryland Avenue SW., Room 11075, Potomac Center Plaza, Washington, DC 20202-7241.

If you prefer to send your comments by email, use the following address: linda.mayo@ed.gov. You must include the term “Proposed Waiver and Extension for NHCTEP” in the subject line of your message.

FOR FURTHER INFORMATION CONTACT: Linda Mayo by telephone at (202) 245-7792 or by email at: linda.mayo@ed.gov.

If you use a telecommunications device for the deaf (TDD), call the Federal Relay Service (FRS), toll free, at 1-800-877-8339.

SUPPLEMENTARY INFORMATION:

Invitation to Comment

We invite you to submit comments regarding this notice. We are particularly interested in receiving comments on the potential impact that this proposed project period waiver and extension might have on NHCTEP and on potential applicants that would be eligible to apply for grant awards under any new NHCTEP notice inviting applications, should there be one.

Eligible applicants are:

(1) Community-based organizations primarily serving and representing Native Hawaiians. For purposes of NHCTEP, a community-based organization means a public or private organization that provides career and technical education, or related services, to individuals in the Native Hawaiian community.

(2) Consortia of community-based organizations primarily serving and representing Native Hawaiians (34 CFR 75.127).

During and after the comment period, you may inspect all public comments about this proposed waiver and extension in room 11075, Potomac Center Plaza, 550 12th Street SW., Washington, DC, between the hours of 8:30 a.m. and 4 p.m., Washington, DC time, Monday through Friday of each week, except Federal holidays.

Assistance to Individuals with Disabilities in Reviewing the Rulemaking Record: On request we will provide an appropriate accommodation or auxiliary aid to an individual with a disability who needs assistance to review the comments or other documents in the public rulemaking record for this proposed waiver and extension. If you want to schedule an appointment for this type of aid, please contact one of the persons listed under FOR FURTHER INFORMATION CONTACT.

Background

NHCTEP supports grants to community-based organizations primarily serving and representing Native Hawaiians to plan, conduct, and administer career and technical education programs, as authorized by section 116(h) of the Carl D. Perkins Career and Technical Education Act of 2006 (Perkins Act or Act) (20 U.S.C. 2326(h)). The eight current NHCTEP grantees were selected based on the March 24, 2009, notice inviting applications published in the Federal Register (74 FR 12333) (March 24, 2009 notice).

In FY 2009, the Department funded NHCTEP projects that are scheduled to end in FY 2012. For those projects, the Secretary proposes to waive the requirement of 34 CFR 75.261(c)(2) of the Education Department General Administrative Regulations (EDGAR), which generally prohibits project period extensions involving the obligation of additional Federal funds. The Secretary also proposes to extend the current NHCTEP project period for 12 months. This would allow the eight current NHCTEP grantees to seek continuation awards in FY 2012 for project periods through FY 2013.

The Secretary makes these proposals because section 9 of the Perkins Act, which includes authorization for NHCTEP at section 116(h), authorizes appropriations for NHCTEP through FY 2012 (20 U.S.C. 2307). With the potential for changes in the authorizing legislation for NHCTEP beyond 2012, we do not believe it would be advisable to hold a new NHCTEP competition in FY 2012 for projects that may then operate for just one year. We are generally reluctant to announce a competition under which eligible entities would be expected to proceed through the application preparation and submission process while lacking critical information about the future of the program, and we do not think that it would be in the public interest to do so in this case.

Rather than holding a new competition in FY 2012, we believe that it would be in the public interest and preferable for NHCTEP for us to review requests for FY 2012 continuation awards from the eight current grantees selected based on the March 24, 2009, notice and to extend currently funded projects, for one more year, through FY 2013.

The extension of the project period and waiver of 34 CFR 75.261(c)(2) we are proposing would mean that: (1) Current grantees would be authorized to request and receive NHCTEP continuation awards in FY 2012 for project periods through FY 2013, (2) we would not announce a new competition or make new awards in FY 2012, (3) the March 24, 2009, notice would continue to govern current projects during the extension year, and (4) the eight currently-approved applications selected based on the March 24, 2009, notice would govern continuation activities.

The March 24, 2009, notice: (1) Established a project period of up to 36 months and reiterated that funding for multi-year awards would be dependent on a grantee meeting the requirements of 34 CFR 75.253 (continuation of a multi-year project after the first budget period); (2) explained the requirements of the program; (3) described the evaluation and reporting requirements; and (4) established the Government Performance and Results Act (GPRA) indicators for NHCTEP.

With this proposed extension of the project period and waiver of 34 CFR 75.261(c)(2), we propose to extend the project period of the eight current NHCTEP grantees that received grants under the FY 2009 competition for one additional year through FY 2013 with FY 2012 funds Congress has appropriated under the current statutory authority. If the waiver of 34 CFR 75.261(c)(2) that we propose in this notice is announced by us in a final notice, the requirements applicable to continuation awards for current NHCTEP grantees and the requirements in section 75.253 of EDGAR would apply to any continuation awards sought by current NHCTEP grantees.

If we announce this proposed waiver and extension as final, we will make decisions regarding annual continuation awards based on grantee program narratives, budgets and budget narratives, and performance reports, and based on the regulations in 34 CFR 75.253. We would award continuation grants based on information provided to us by each grantee, indicating that it is making substantial progress performing its NHCTEP grant activities based on the requirements in the March 24, 2009, notice inviting applications. Any activities to be carried out during the continuation year must be consistent with, or be a logical extension of the scope, goals, and objectives of each grantee's application as approved in the 2009 NHCTEP competition. Under this proposed waiver and extension, the project period for current NHCTEP grantees would be extended through FY 2013.

Regulatory Flexibility Act Certification

The Secretary certifies that the proposed waiver and extension and the activities required to support additional year of funding would not have a significant economic impact on a substantial number of small entities. The small entities that would be affected by this proposed waiver and extension are the eight currently-funded NHCTEP grantees.

The Secretary certifies that the proposed waiver and extension would not have a significant economic impact on these NHCTEP entities because the proposed waiver and extension impose minimal compliance costs to extend projects already in existence, and the activities required to support the additional year of funding would not impose additional regulatory burdens or require unnecessary Federal supervision.

Paperwork Reduction Act of 1995

This notice of proposed waiver and extension does not contain any information collection requirements.

Intergovernmental Review

The NHCTEP is not subject to Executive Order 12372 and the regulations in 34 CFR part 79.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Program Authority: 20 U.S.C. 2326(h).

Dated: February 13, 2012.
Brenda Dann-Messier,
Assistant Secretary for Vocational and Adult Education.

[FR Doc. 2012-3673 Filed 2-15-12; 8:45 am]

BILLING CODE 4000-01-P